DEPARTMENT OF STATE

[Public Notice 6513]

Industry Advisory Panel: Notice of Open Meeting

The Industry Advisory Panel of Overseas Buildings Operations will meet on Tuesday, March 3, 2009 from 9:30 a.m. until 3:30 p.m. Eastern Standard Time. The meeting will be held in room 1107 of the U.S. Department of State, located at 2201 C Street NW. (entrance on 23rd Street) Washington, DC. For logistical and security reasons, it is imperative that everyone enter and exit using only the 23rd Street entrance. The majority of the meeting is devoted to an exchange of ideas between the Department's Bureau of Overseas Buildings Operations' senior management and the panel members, on design, operations, and building maintenance. Members of the public are asked to kindly refrain from joining the discussion until Director Shinnick opens the discussion to them.

Entry to the building is controlled; to obtain pre-clearance for entry, members of the public planning to attend should provide, by February 20, 2009, their name, professional affiliation, date of birth, citizenship, and a valid government-issued ID number (i.e., U.S. government ID, U.S. military ID, passport, or drivers license with state) by e-mailing: iapr@state.gov. Because of space restrictions, we request that companies interested in attending send only one representative.

If you have any questions, please contact Andrea Walk at walkam@state.gov or on (703) 516-1544.

February 6, 2009.
Richard J. Shinnick,
Director, ad interim, Overseas Building Operations, Department of State.

[FR Doc. E9-3529 Filed 2-18-09; 8:45 am]

BILLING CODE 4710-24-P